EQUAL EMPLOYMENT OPPORTUNITY COMMISSION

Public Availability of Equal Employment Opportunity Commission (EEOC) FY 2011 Service Contract Inventory

AGENCY: Equal Employment Opportunity Commission.

ACTION: Notice of public availability of FY 2011 Service Contract inventories.

SUMMARY: In accordance with Section 743 of Division C of the Consolidated Appropriations Act of 2010 (Pub. L. 111-117), Equal Employment Opportunity Commission is publishing this notice to advise the public of the availability of the FY 2011 Service Contract inventory. This inventory provides information on service contract actions over $25,000 that were made in FY 2011. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The Equal Employment Opportunity Commission has posted its inventory and a summary of the inventory on the EEOC homepage at the following link: http://www.eeoc.gov/eeoc/doingbusiness/index.cfm.

FOR FURTHER INFORMATION CONTACT: Questions regarding the service contract inventory should be directed to Doreen Starkes in the Acquisition Services Division at (202) 663-4240 or DOREEN.STARKES@EEOC.GOV.

Dated: February 2, 2012.
Patrick R. Mealy,
Director, Acquisition Services Division.

[FR Doc. 2012-2791 Filed 2-7-12; 8:45 am]

BILLING CODE 6570-01-P